DEPARTMENT OF COMMERCE

National Oceanic and Atmospheric Administration

Federal Consistency Appeal by WesternGeco of South Carolina Objection

AGENCY: National Oceanic and Atmospheric Administration (NOAA), Department of Commerce (DOC).

ACTION: Notice of stay—closure of administrative appeal decision record.

SUMMARY: This announcement provides notice that the Department of Commerce (Department) has stayed, for a period of 14 days, closure of the decision record in an administrative appeal filed by filed by WesternGeco (Appellant) under the Coastal Zone Management Act requesting that the Secretary override an objection by the South Carolina Department of Health and Environmental Control to a consistency certification for a proposed project to conduct a marine Geological and Geophysical seismic survey in the Atlantic Ocean.

DATES: The decision record for WesternGeco's Federal Consistency Appeal of South Carolina's objection will now close on April 27, 2020.

ADDRESSES: NOAA has provided access to publicly available materials and related documents comprising the appeal record on the following website: http://www.regulations.gov/#!docketDetail;D=NOAA-HQ-2019-0118.

FOR FURTHER INFORMATION CONTACT: For questions about this Notice, contact Jonelle Dilley, NOAA Office of General Counsel, Oceans and Coasts Section, 1305 East-West Highway, Room 6111, Silver Spring, MD 20910, (301) 713-7383, jonelle.dilley@noaa.gov.

SUPPLEMENTARY INFORMATION: On September 20, 2019, the Secretary of Commerce (Secretary) received a “Notice of Appeal” filed by WesternGeco pursuant to the Coastal Zone Management Act of 1972 (CZMA), 16 U.S.C. 1451 et seq., and implementing regulations found at 15 CFR part 930, subpart H. The “Notice of Appeal” is taken from an objection by the South Carolina Department of Health and Environmental Control to a consistency certification for a proposed project to conduct a marine Geological and Geophysical seismic survey in the Atlantic Ocean. This matter constitutes an appeal of an “energy project” within the meaning of the CZMA regulations, see 15 CFR 930.123(c).

Under the CZMA, the Secretary may override South Carolina's objection on grounds that the project is consistent with the objectives or purposes of the CZMA, or is necessary in the interest of national security. To make the determination that the proposed activity is “consistent with the objectives or purposes of the CZMA,” the Department must find that: (1) The proposed activity furthers the national interest as articulated in sections 302 or 303 of the CZMA, in a significant or substantial manner; (2) the national interest furthered by the proposed activity outweighs the activity's adverse coastal effects, when those effects are considered separately or cumulatively; and (3) no reasonable alternative is available that would permit the proposed activity to be conducted in a manner consistent with the enforceable policies of the applicable coastal management program. 15 CFR 930.121. To make the determination that the proposed activity is “necessary in the interest of national security,” the Secretary must find that a national defense or other national security interest would be significantly impaired if the proposed activity is not permitted to go forward as proposed. 15 CFR 930.122.

The Secretary must close the decision record in a federal consistency appeal 160 days after the Notice of Appeal is published in the Federal Register. 15 CFR 930.130(a)(1). However, the CZMA authorizes the Secretary to stay closing the decision record for up to 60 days when the Secretary determines it necessary to receive, on an expedited basis, any supplemental information specifically requested by the Secretary to complete a consistency review or any clarifying information submitted by a party to the proceeding related to information in the consolidated record compiled by the lead Federal permitting agency. 15 CFR 930.130(a)(2), (3).

After reviewing the decision record developed to date, the Secretary has decided to solicit supplemental and clarifying information from the Bureau of Ocean Energy Management pertaining to the withholding of certain information as proprietary. In order to allow receipt of this information, the Secretary hereby stays closure of the decision record, currently scheduled to occur on April 13, 2020, until April 27, 2020.

Public Availability of Appeal Documents

NOAA has provided access to publicly available materials and related documents comprising the appeal record on the following website: http://www.regulations.gov/#!docketDetail;D=NOAA-HQ-2019-0118.

(Authority Citation: 15 CFR 930.130(a)(2), (3))

Adam Dilts,
Chief, Oceans and Coasts Section, NOAA Office of General Counsel.

[FR Doc. 2020-07722 Filed 4-10-20; 8:45 am]

BILLING CODE 3510-JE-P